DEPARTMENT OF HEALTH AND HUMAN SERVICES

Administration for Children and Families

Proposed Information Collection Activity; Head Start Family and Child Experiences Survey (FACES) (OMB #0970-0151)

AGENCY: Office of Planning, Research, and Evaluation, Administration for Children and Families, HHS.

ACTION: Request for public comment.

SUMMARY: The Office of Planning, Research, and Evaluation (OPRE), Administration for Children and Families (ACF), U.S. Department of Health and Human Services (HHS), is proposing to collect data for a new wave of the Head Start Family and Child Experiences Survey (FACES) as well as a follow-up to a special data collection fielded in the fall of 2021.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The purpose of the FACES data collection is to support the 2007 reauthorization of the Head Start program (Pub. L. 110-134), which calls for periodic assessments of Head Start's quality and effectiveness. FACES 2019 focuses on Head Start Regions I through X (which are geographically based); AIAN (American Indian and Alaska Native) FACES 2019 focuses on Region XI (which funds Head Start programs that serve federally recognized American Indian and Alaska Native tribes). Both studies will provide data on a set of key indicators for Head Start programs. Information about the Head Start program recruitment and center selection processes and on the fall 2019, spring 2020, and fall 2021 data collection activities for both FACES and AIAN FACES can be found here: https://www.reginfo.gov/public/do/PRAViewICR?ref_nbr=202005-0970-009.

This 60-day notice describes:

• The spring 2022 round of FACES program- and classroom-level data collection.

• A follow-up in spring 2022 of the fall 2021 FACES and AIAN FACES child-level data collection.

FACES spring 2022 data collection will take place in 180 Head Start programs nationwide. Of the 180 programs, 60 will have participated in fall data collection and 120 will be added to participate in classroom- and program-data collection only. AIAN FACES will continue in the same 22 programs that participated in 2019, 2020, and 2021 data collection. Data collection activities will include teacher sampling (for the 120 FACES programs not part of fall 2021), parent surveys, teacher child reports, staff surveys, and, for FACES, classroom observations.

In the additional 120 programs added to FACES in spring 2022, data collection will begin with sampling of FACES teachers in 240 Head Start centers. Study team members will request a list of all teachers working with Head Start-funded children.

As in fall 2021, for the spring 2022 follow-up data collection, FACES will survey the parents of 2,400 Head Start children in Regions I-X (FACES 2019) and 800 children in Region XI (AIAN FACES 2019) and ask their Head Start teachers to rate children's learning skills and social and emotional skills. Parents of sampled children (2,400 for FACES and 800 for AIAN FACES) will complete surveys on the web or by telephone about their children and family. In all 202 programs (180 for FACES and 22 for AIAN FACES), Head Start teachers will rate each sampled child (approximately 10 children per teacher) using the web or paper-and-pencil forms. Teachers, program directors, and center directors will also complete a survey, also using the web or paper-and-pencil forms, about themselves and the services and instruction in Head Start.

Respondents: Parents of Head Start children; Head Start staff.

Annual Burden Estimates
Instrument | Number of respondents (total over request period) | Number of responses per respondent (total over request period) | Average burden per response (in hours) | Total burden (in hours) | Annual burden (in hours)
FACES 2019 spring 2022 special teacher sampling form from Head Start staff | 240 | 1 | .17 | 41 | 14
FACES 2019 special Head Start parent survey | 2,400 | 1 | .58 | 1,392 | 464
FACES 2019 special Head Start teacher child report | 240 | 10 | .17 | 408 | 136
FACES 2019 Head Start teacher survey | 720 | 1 | .67 | 482 | 161
FACES 2019 Head Start center director survey | 360 | 1 | .58 | 209 | 70
FACES 2019 Head Start program director survey | 180 | 1 | .67 | 121 | 40
AIAN FACES 2019 special Head Start parent survey | 800 | 1 | .58 | 464 | 155
AIAN FACES 2019 special Head Start teacher child report | 90 | 9 | .17 | 138 | 46
AIAN FACES 2019 Head Start teacher survey | 90 | 1 | .58 | 52 | 17
AIAN FACES 2019 Head Start center director survey | 42 | 1 | .50 | 21 | 7
AIAN FACES 2019 Head Start program director survey | 22 | 1 | .50 | 11 | 4

Estimated Total Annual Burden Hours: 1,114.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 640(a)(2)(D) and section 649 of the Improving Head Start for School Readiness Act of 2007.

Mary B. Jones,
ACF/OPRE Certifying Officer.

[FR Doc. 2021-18519 Filed 8-26-21; 8:45 am]

BILLING CODE 4184-22-P